DEPARTMENT OF HEALTH AND HUMAN SERVICES

Centers for Disease Control and Prevention

Government-Owned Inventions; Availability for Licensing

AGENCY: Centers for Disease Control and Prevention, Technology Transfer Office, Department of Health and Human Services

ACTION: Notice.

The inventions named in this notice are owned by agencies of the United States Government and are available for licensing in the United States (U.S.) in accordance with 35 U.S.C. 207, to achieve expeditious commercialization of results of federally funded research and development. Foreign patent applications are filed on selected inventions to extend market coverage for U.S. companies and may also be available for licensing.

ADDRESSES: Licensing information, and copies of the U.S. patent applications listed below, may be obtained by writing to Thomas E. O'Toole, M.P.H., Deputy Director, Technology Transfer Office, Centers for Disease Control and Prevention (CDC), Mailstop E-67, 1600 Clifton Rd., Atlanta, GA 30333, telephone (404) 639-6270; facsimile (404) 639-6266; or email tto@cdc.gov. A signed Confidential Disclosure Agreement will be required to receive copies of unpublished patent applications.

Gripping Assembly for Impact Hammer

The Gripping Assembly for an Impact Hammer easily attaches to an existing hydraulic impact hammer and performs three functions: First, the assembly allows an impact hammer operator to manipulate and hold objects that are to be broken with the hammer. Second, the assembly allows the operator to grasp and move objects (such as the debris that may clog a grizzly in an underground mine). Finally, an operator can use the assembly to “sweep” debris from the work area (such as the fines that may accumulate and clog a grizzly in an underground mine).

Inventors: Bill M. Stewart et al., U.S. Patent Application SN: To be assigned, filed 4.16.2001 (CDC Ref. #: I-029-00)

Method and Apparatus for Laser Safety in Hazardous Locations

Laser-based technology is used in several diverse industries to monitor flammable material processes. This invention monitors temperatures within these processes when heated by a laser and compares these temperatures with a preset temperature threshold. If the temperature threshold is exceeded, the invention shuts down the laser, thus preventing ignition of flammable material.

Inventors: William D. Monaghan, et al., U.S. Patent Application SN: To be assigned, filed 2.9.2001 (CDC Ref. #: I-030-00)

Lighted Rescue Team Lifeline

The Lighted Rescue Team Lifeline is a flexible illuminated safety line used to keep rescue and exploration team members together in low-light areas. The lighted lifeline helps to prevent tripping and falling problems, and it eases the task of locating the lifeline if it becomes entangled around obstacles.

Inventors: Ronald S. Conti et al., U.S. Patent Application SN: To be assigned, filed 3.7.2001, (CDC Ref. #: I-034-00)

A 12-volt Battery Charging Apparatus Using Mine Shaft Guide Roller Wheels

Elevators and mine shaft conveyances often require local instrumentation to monitor conveyance speed, location, cable tension, etc. Power for these instruments is generally provided through a trailing cable. In deep mines, or high buildings, trailing cables can be impractical for many reasons. This invention describes a self-contained unit that contains a battery used to power the local instrumentation, and a charging system that uses the motion of the elevator or shaft conveyance to charge the battery.

Inventors: Michael J. Beus et al., U.S. Patent Application SN: Application yet to be filed (CDC Ref. #: I-038-00)

Dated: June 6, 2001.
Kathleen M. Rest,
Acting Director, National Institute for Occupational Safety and Health, Centers for Disease Control and Prevention.

[FR Doc. 01-14939 Filed 6-13-01; 8:45 am]

BILLING CODE 4163-18-P